DEPARTMENT OF AGRICULTURE

Rural Housing Service

Farm Service Agency

Notice of Request for Extension of a Currently Approved Information Collection

AGENCIES: Rural Housing Service (RHS) and Farm Service Agency (FSA), USDA.

ACTION: Proposed collection; comments requested.

SUMMARY: In accordance with the Paperwork Reduction Act of 1995, this notice announces the Agencies intention to request an extension for a currently approved information collection in support of the Real Estate Title Clearance and Loan Closing regulation.

DATES: Comments on this notice must be received by April 30, 2007 to be assured of consideration.

FOR FURTHER INFORMATION CONTACT: Gale Richardson, Loan Specialist, Single Family Housing Direct Loan Division, Rural Housing Service, U.S. Department of Agriculture, Mail STOP 0783, 1400 Independence Ave., SW., Washington, DC 20250-0783, Telephone 202-720-1459. (This is not a toll free number.)

SUPPLEMENTARY INFORMATION: Title: 7 CFR 1927-B, Real Estate Title Clearance and Loan Closing.

OMB Number: 0575-0147.

Expiration Date of Approval: June 30, 2007.

Type of Request: Extension of a currently approved information collection.

Abstract: Section 501 of Title V of the Housing Act of 1949, as amended, authorizes the Secretary of Agriculture to extend financial assistance to construct, improve, alter, repair, replace, or rehabilitate dwellings, farm buildings, and/or related facilities to provide decent, safe, and sanitary living conditions and adequate farm buildings and other structures in rural areas. Sections 302, 311, and 321 of the Consolidated Farm and Rural Development Act, as amended, authorize the Secretary to extend agricultural credit to farmers and ranchers. Title clearance is required to assure the Agency(s) that the loan is legally secured and has the required lien priority.

The Agencies will be collecting information to assure that those participating in this program remain eligible to proceed with loan closing and to ensure that loans made with Federal funds are legally secured. The respondents are individuals or households, farms, businesses, and nonprofit institutions. The information required is used by USDA personnel to verify that the required lien position has been obtained. The information is collected at the field office responsible for processing a loan application through loan closing. The information is also used to ensure the program is administered in a manner consistent with legislative and administrative requirements. If not collected, the Agency would be unable to determine if the loan is adequately and legally secured.

Estimate of Burden: Public reporting burden for this collection of information is estimated to average .28 hours per response.

Respondents: Individuals or households, farms, businesses, non-profit institutions.

Estimated Number of Respondents: 90,399.

Estimated Number of Responses per Respondent: 1.

Estimated Number of Responses: 90,399.

Estimated Total Annual Burden on Respondents: 25,042 hours.

Copies of this information collection can be obtained from Renita Bolden, Regulations and Paperwork Management Branch, at (202) 692-0035.

Comments: Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques, or other forms of information technology. Comments may be sent to Renita Bolden, Regulation and Paperwork Management Branch, U.S. Department of Agriculture, Rural Development, Stop 0742, 1400 Independence Ave., SW, Washington, DC 20250-0742. All responses to this notice will be summarized and included in the request for OMB approval. All comments will also become a matter of public record.

Dated: February 1, 2007.
Russell T. Davis,
Administrator, Rural Housing Service.

Dated: January 31, 2007.
Thomas B. Hofeller,
Acting Administrator, Farm Service Agency.

[FR Doc. 07-867 Filed 2-26-07; 8:45 am]

BILLING CODE 3410-XY-P